ENVIRONMENTAL PROTECTION AGENCY

[FRL 7058-1]

Comprehensive Environmental Response, Compensation and Liability Act (CERCLA) or Superfund, Section 104; “Announcement of Proposal Deadline for the Competition for the FY 2002 Brownfields Cleanup Revolving Loan Fund Pilots”

AGENCY: Environmental Protection Agency.

ACTION: Notice of proposal deadlines, revised guidelines.

SUMMARY: The United States Environmental Protection Agency (USEPA) will begin to accept proposals for the FY 2002 Brownfields Cleanup Revolving Loan Fund Pilots on September 20, 2001 (Catalogue of Federal Domestic Assistance Number: 66811). The Brownfields Cleanup Revolving Loan Fund pilots (each may be funded up to $1,000,000 per eligible entity) enable States, Indian Tribes, and political subdivisions to facilitate the cleanup and redevelopment of brownfields properties. The pilots test revolving loan fund models that assist with the coordination of public and private cleanup efforts. EPA expects to select up to 25 additional Brownfields Cleanup Revolving Loan Fund pilots by March 2002. The deadline for new proposals for the FY 2002 Brownfields Cleanup Revolving Loan Fund pilots is November 15, 2001. All proposals must be postmarked by USPS, or delivered at U.S. EPA Headquarters by other means, no later than November 15, 2001 and a duplicate copy sent to the appropriate U.S. EPA Regional Office.

The Brownfields Cleanup Revolving Loan Fund pilot cooperative agreements are selected on a competitive basis. Specific proposal requirements for applicants are set forth in the newly revised guidelines, entitled The Brownfields Economic Redevelopment Initiative: Proposal Guidelines for Brownfields Cleanup Revolving Loan Fund (August 2001). Applicants should follow the Guidelines in order to ensure the application they submit complies with those requirements. Details on how to obtain a copy of the Guidelines are set forth in the Addresses section.

To ensure a fair section process, evaluation panels consisting of EPA regional and Headquarters staff and other federal agency representatives will assess how well the proposals meet the selection criteria outlined in the Guidelines. Regional panels make recommendations to EPA senior management. Final award decisions are made by EPA senior management, and may take into account policy considerations such as geographic distribution of funds.

DATES: All proposals must be sent via registered or tracked (return receipt) mail and postmarked by USPS no later than November 15, 2001. Proposals must be sent to U.S. EPA Headquarters and a duplicate copy sent to the appropriate U.S. EPA Regional Office. Applicants may also send their proposals by commercial delivery service provided the proposals arrive at U.S. EPA Headquarters and the appropriate U.S. EPA Regional Office on or before close of business on November 15, 2001.

ADDRESSES: Mailing addresses for U.S. EPA Headquarters and U.S. EPA Regional Offices are provided in the Proposal Guidelines.

Obtaining Proposal Guidelines:

The Proposal Guidelines are available via the Internet at: http://www.epa.gov/brownfields.

Copies of the Proposal Guidelines will also be mailed upon request. Requests should be made by calling the U.S. EPA Call Center at the following numbers:

Washington, DC Metro Area at 703-412-9810

Outside Washington, DC Metro at 1-800-424-9346

TDD for the Hearing Impaired at 1-800-553-7672

In order to ensure that the Guidelines are received in time to be used in the preparation of the proposal, applicants should request a copy as soon as possible and in any event no later than seven (7) working days before the proposal due date. Applicants who request copies after that date might not receive the proposal guidelines in time to prepare and submit a responsive proposal.

FOR FURTHER INFORMATION CONTACT: The U.S. EPA's Office of Solid Waste and Emergency Response, Outreach and Special Projects Staff, Barbara Bassuener (202) 260-9347 or Jennifer Millett Wilbur (202) 260-6454.

SUPPLEMENTARY INFORMATION: The Environmental Protection Agency's (EPA) Brownfields Economic Redevelopment Initiative is designed to empower states, local governments, communities, and other stakeholders involved in economic redevelopment to work together in a timely manner to prevent, assess, and safely cleanup brownfields in order to facilitate their sustainable reuse. As part of this Initiative, EPA may award cooperative agreements to States, political subdivisions (including cities, towns, counties), and Indian tribes to capitalize Brownfields Cleanup Revolving Loan Fund pilots. The purpose of these pilots is to test brownfields cleanup revolving loan fund models that direct special efforts toward facilitating coordinated public and private brownfields cleanup efforts.

In FY 2002, the EPA expects to select up to 25 new BCRLF pilots to be funded up to $1,000,000 per eligible entity by March 2002.

Eligible entities for FY 2002 BCRLF pilots will be states, political subdivisions, or federally recognized Indian Tribes that have established and can demonstrate progress already made in the assessment, cleanup, and revitalization of brownfields in their community, State or Tribe.

Coalition of eligible entities are permitted to apply, but a single entity must be identified as the applicant. Additionally, a letter of support from each coalition member must be included as an attachment.

Applicants must meet threshold criteria, i.e., the minimum criteria, in order to be considered for an award. All threshold criteria must be met. The following is a synopsis of the threshold criteria: (1) demonstrate the commitment of the eligible entity to the cleanup and revitalization of brownfields; and (2) demonstrate the ability and legal authority of the eligible entity to manage a revolving loan fund and environmental cleanups;

Those applicants that meet the threshold criteria will then be evaluated based on their responses to the evaluation criteria. Applicants should address all of the evaluation criteria. Responses to the evaluation criteria will be utilized to determine whether to make an award, and the amount of funds to be awarded. All evaluation criteria are equally important. There is no guarantee of an award. The following is a synopsis of the evaluation criteria: (1) Demonstrate the need of the eligible entity; (2) demonstrate the commitment of the eligible entity to making loans and to creative leveraging of EPA financial assistance; (3) demonstrate the benefits of the BCRLF loans to the local community; (4) demonstrate the long-term benefits and sustainability of the proposed BCRLF.

Funding for the Brownfields Cleanup Revolving Loan Fund pilots is authorized under Section 104(d)(1) of the Comprehensive Environmental Response, Compensation, and Liability Act of 1980, as amended, (CERCLA or Superfund), 42 U.S.C. 9604(d)(1).

Dated: September 14, 2001.
Linda Garczynski,
Director, Outreach and Special Projects Staff, Office of Solid Waste and Emergency Response.

[FR Doc. 01-23477 Filed 9-19-01; 8:45 am]

BILLING CODE 6560-50-M